DEPARTMENT OF COMMERCE

Foreign-Trade Zones Board

[Docket 40-2011]

Foreign-Trade Zone 119—Minneapolis-St. Paul, MN; Application for Reorganization Under Alternative Site Framework

An application has been submitted to the Foreign-Trade Zones (FTZ) Board (the Board) by the Greater Metropolitan Area Foreign-Trade Zone Commission, grantee of FTZ 119, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on June 8, 2011.

FTZ 119 was approved by the Board on July 24, 1985 (Board Order 305, 50 FR 31404, 8/2/1985) and expanded on April 14, 1994 (Board Order 690, 59 FR 19692, 4/25/1994) and June 4, 2010 (Board Order 1684, 75 FR 34097, 6/16/2010).

The current zone project includes the following sites: Site 1 (3,002 acres)—located at the Minneapolis-St. Paul International Airport, Minneapolis (Hennepin County); Site 2 (960 acres)—Mid-City Industrial Park, intersection of E. Hennepin Ave. (County Road 52) and Larpenteur Ave. (County Road 30), Minneapolis (Hennepin County); Site 3 (13 acres)—Eagan Industrial Park, 3703 Kennebec Drive, Eagan (Dakota County); Site 7 (193 acres)—Chaska Bio-Science Corporate Campus, intersection of Carver County Road 10 and New U.S. Highway 212, Chaska (Carver County); Site 8 (200 acres)—Elk Run Bio-Business Park, located on the north side of U.S. Highway 52, approximately 2 miles southeast of the City of Pine Island (Goodhue County); Site 9 (20 acres)—1700 Wynne Avenue, St. Paul (Ramsey County); and, Site 10 (236 acres)—Bloomington Airport Industrial Park, near the Fort Snelling Military Reservation and I-494, Bloomington (Hennepin County). Sites 4-6 have expired or were deleted through previous actions.

The grantee's proposed service area under the ASF would be Isanti, Chisago, Sherburne, Wright, Anoka, Washington, Ramsey, Hennepin, McLeod, Carver, Scott, Dakota, Sibley, LeSueur, and Rice Counties, Minnesota, as described in the application. If approved, the grantee would be able to serve sites throughout the service area based on companies' needs for FTZ designation. The proposed service area is within and adjacent to the Minneapolis Customs and Border Protection port of entry. The grantee also proposes to maintain its existing site (Site 8) in Pine Island (Goodhue County).

The applicant is requesting authority to reorganize its existing zone project to include all of the existing sites as “magnet” sites. The ASF allows for the possible exemption of one magnet site from the “sunset” time limits that generally apply to sites under the ASF, and the applicant proposes that Site 1 be so exempted. No usage-driven sites are being requested at this time. Because the ASF only pertains to establishing or reorganizing a general-purpose zone, the application would have no impact on FTZ 119's authorized subzones.

In accordance with the Board's regulations, Elizabeth Whiteman of the FTZ Staff is designated examiner to evaluate and analyze the facts and information presented in the application and case record and to report findings and recommendations to the Board.

Public comment is invited from interested parties. Submissions (original and 3 copies) shall be addressed to the Board's Executive Secretary at the address below. The closing period for their receipt is August 15, 2011. Rebuttal comments in response to material submitted during the foregoing period may be submitted during the subsequent 15-day period to August 29, 2011.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz. For further information, contact Elizabeth Whiteman at Elizabeth.Whiteman@trade.gov or (202) 482-0473.

Dated: June 8, 2011.
Andrew McGilvray,
Executive Secretary.

[FR Doc. 2011-14683 Filed 6-13-11; 8:45 am]

BILLING CODE P